PENSION BENEFIT GUARANTY CORPORATION

Privacy Act of 1974; System of Records

AGENCY: Pension Benefit Guaranty Corporation.

ACTION: Notice of a new system of records—PBGC-13, Debt Collection—PBGC.

SUMMARY: The Pension Benefit Guaranty Corporation proposes to establish a new system of records maintained pursuant to the Privacy Act of 1974, as amended. The new system of records, PBGC-13, Debt Collection—PBGC, will be maintained to collect debts owed to PBGC by various individuals. A routine use will permit disclosure of records to the United States Department of Treasury for debt collection pursuant to the Debt Collection Improvement Act of 1996.

DATES: Comments on the new system of records must be received on or before May 31, 2000. The new system of records will become effective June 15, 2000, without further notice, unless comments result in a contrary determination and a notice is published to that effect.

ADDRESSES: Comments may be mailed to the Office of the General Counsel, Pension Benefit Guaranty Corporation, 1200 K Street, NW., Washington, DC 20005-4026, or delivered to Suite 340 at the above address. Comments also may be sent by Internet e-mail to reg.comments@pbgc.gov. Comments will be available for public inspection at the PBGC's Communications and Public Affairs Department, Suite 240.

FOR FURTHER INFORMATION CONTACT: Holli Beckerman Jaffe, Attorney, Pension Benefit Guaranty Corporation, Office of the General Counsel, 1200 K Street, NW., Washington, DC 20005-4026; 202-326-4123. (For TTY/TDD users, call the Federal relay service toll-free at 1-800-877-8339 and ask to be connected to 202-326-4024.)

SUPPLEMENTARY INFORMATION: The PBGC proposes to establish a new debt collection system of records entitled PBGC-13, Debt Collection, pursuant to the Privacy Act of 1974, as amended. The new system of records will be maintained to collect debts owed to PBGC by various individuals. A routine use will permit disclosure of certain information about debtors and delinquent debts to the Department of Treasury (Treasury) to facilitate the PBGC's compliance with the transfer and disclosure provisions of the Debt Collection Improvement Act of 1996 (DCIA), 31 U.S.C. 3711(e) & (g). General Routine Uses G1 and G4 through G8, from PBGC's Prefatory Statement of General Routine Uses, last published at 60 FR 57462, 57463-57464 (1995), will also apply to records maintained in PBGC-13.

Section 3711(g) of DCIA requires Federal agencies to transfer any non-tax debt that is over 180 days delinquent to the Department of Treasury for debt collection action. This centralized collection of government-wide debt is called “cross-servicing.” Under section 3711(g), Treasury will use all appropriate debt collection tools to collect the debt, including referral to a designated debt collection center or private collection agency, disclosure to a consumer reporting agency, and administrative or tax refund offset.

Section 3711(e) of DCIA requires agencies to disclose information about a debt to a consumer reporting agency. Under cross-servicing, Treasury is authorized to disclose debts to consumer reporting agencies and will do so if the creditor agency has not done so. The PBGC intends, in most cases, to comply with DCIA's requirement to disclose debts to consumer reporting agencies by transferring the debt to Treasury for cross-servicing.

Issued in Washington, DC this 26 day of April, 2000.
David Strauss,
Executive Director, Pension Benefit Guaranty Corporation.

PBGC-13

System name:

Debt Collection—PBGC.

Security classification:

Not applicable.

System location:

Pension Benefit Guaranty Corporation, 1200 K Street NW., Washington, DC 20005-4026 and/or field benefit administrator, plan administrator, and paying agent worksites.

Categories of individuals covered by the system:

Anyone who may owe a debt to the PBGC, including but not limited to: Employees of the PBGC; individuals who are consultants and vendors to the PBGC; participants and beneficiaries in terminating and terminated pension plans covered by Title IV of the Employee Retirement Income Security Act of 1974, as amended (ERISA), and individuals who fraudulently received benefit payments from PBGC.

Categories of records in the system:

Names; addresses; social security numbers; taxpayer identification numbers; employee number; travel vouchers and related documents filed by employees of the PBGC; invoices filed by consultants and vendors to the PBGC; records of benefit payments made to participants and beneficiaries in terminating and terminated pension plans covered by Title IV of ERISA; and other relevant records relating to the debt including the amount, status, and history of the debt, and the program under which the debt arose. The records listed herein are included only as pertinent or applicable to the individual debtor.

Authority for maintenance of the system:

29 U.S.C. 1302; 31 U.S.C. 3711(e) & (g).

Purpose(s):

This system of records is maintained for the purpose of collecting debts owed to PBGC by various individuals, including, but not limited to, the PBGC's employees, consultants and vendors, participants and beneficiaries in terminating and terminated pension plans covered by Title IV of ERISA, and individuals who received benefit payments to which they are not entitled. This system facilitates the PBGC's compliance with the Debt Collection Improvement Act of 1996.

Routine uses of records maintained in the system, including categories of users and the purposes of such uses:

1. A record from this system of records may be disclosed to the United States Department of Treasury for cross-servicing to effect debt collection in accordance with 31 U.S.C. 3711(e).

General Routine Uses G1 and G4 through G8 (see Prefatory Statement of General Routine Uses) apply to this system of records.

Disclosure to consumer reporting agencies:

Information may be disclosed to a consumer reporting agency in accordance with 31 U.S.C. 3711(e) (5 U.S.C. 552a(b)(12)).

Policies and practices for storing, retrieving, accessing, retaining, and disposing of records in the system:

Storage:

Records are maintained in paper and electronic form.

Retrievability:

Records are indexed by any one or more of the following: employer identification number: social security number; plan number; and name of debtor, plan, plan sponsor, plan administrator, participant or beneficiary.

Safeguards:

Paper records are kept in file folders in areas of restricted access that are locked after office hours. Electronic records are stored on computer networks and protected by assigning user identification numbers to individuals needing access to the records and by passwords set by authorized users that must be changed periodically.

Retention and disposal:

Records relating to the debts of consultants and vendors are destroyed 6 years and 3 months after the date of the voucher.

Records relating to debts of PBGC employees involving payroll, leave, attendance, and travel are maintained for various periods of time, as provided in National Archives and Records Administration General Records Schedules 2 and 9.

Records relating to debts of participants and beneficiaries in terminating and terminated pension plans covered by Title IV of ERISA are transferred to the Washington National Federal Records Center 6 months after either the final payment to a participant and/or beneficiary, or the PBGC's final determination that a participant or beneficiary is not entitled to any benefits, and are destroyed 7 years after such payment or determination.

Records relating to debts of other individuals are maintained until their disposition is authorized by the National Archives and Records Administration.

System manager(s) and address:

Director, Financial Operations Department, Pension Benefit Guaranty Corporation, 1200 K Street, NW., Washington, DC 20005-4026.

Notification procedure:

Procedures are detailed in PBGC regulations: 29 CFR part 4902.

Record access procedures:

Same as notification procedure.

Contesting record procedures:

Same as notification procedure.

Record source categories:

Subject individual, plan administrators, labor organization officials, firms or agencies providing locator services, and other Federal agencies.

Exemptions claimed for the system:

None.

[FR Doc. 00-10811 Filed 4-28-00; 8:45 am]

BILLING CODE 7708-01-P